DEPARTMENT OF HOMELAND SECURITY

Coast Guard

33 CFR Part 117

[Docket No. USCG-2010-0447]

Drawbridge Operation Regulation; Teche Bayou, Morbihan, LA

AGENCY: Coast Guard, DHS.

ACTION: Notice of temporary deviation from regulations.

SUMMARY: The Commander, Eighth Coast Guard District, has issued a temporary deviation from the regulation governing the operation of the LA 44 swing span bridge across Teche Bayou, mile 56.7, at Morbihan, Iberia Parish, Louisiana. The deviation is necessary to jack and shim the bridge and to install a new roller wedge system. This deviation allows the bridge to remain closed to navigation for three consecutive weeks.

DATES: This deviation is effective from 6:30 a.m. on Monday, June 21 through 6:30 a.m. on Tuesday, August 3, 2010.

ADDRESSES: Documents mentioned in this preamble as being available in the docket are part of docket USCG-2010-0447 and are available online by going to http://www.regulations.gov, inserting USCG-2010-0447 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Kay Wade, Bridge Administration Branch, Coast Guard; telephone 504-671-2128, e-mail Kay.B.Wade@uscg.mil. If you have questions on viewing the docket, call Renee V. Wright, Program Manager, Docket Operations, telephone 202-366-9826.

SUPPLEMENTARY INFORMATION: The Louisiana Department of Transportation and Development has requested a temporary deviation from the operating schedule of the swing span bridge across Teche Bayou at mile 56.7 in Morbihan, Iberia Parish, Louisiana. The closure is necessary in order to rehabilitate machinery parts on the bridge. The work will require the bridge to be jacked up and taken out of service. This maintenance is essential for the continued operation of the bridge.

In accordance with 33 CFR 117.501(a)(18), the swing span of the bridge shall open on signal if at least 4 hours notice is given. This deviation allows the swing span of the bridge to remain closed to navigation for three consecutive weeks between 6:30 a.m. Monday, June 21 and 6:30 a.m. Tuesday, August 3, 2010. Uncontrollable variables such as material supply delays and inclement weather make it difficult to predict the exact dates that work can be conducted. Thus, the exact dates for the closure cannot be firmly scheduled. Notices will be published in the Eighth Coast Guard District Local Notice to Mariners and will be broadcast via the Coast Guard Broadcast Notice to Mariners System as soon as information pertaining to the exact closure dates becomes available. The Coast Guard will coordinate the closure with the commercial users of the waterway as exact closure dates are known.

The vertical clearance of the swing span bridge in the closed-to-navigation position is 6.12 feet above Mean high Water Elevation 5.7 feet Mean Sea Level. Navigation on the waterway consists of tugs with tows, ship fabricator's commissioned vessels, crew boats and oil field support/service vessels. The bridge opens for the passage of navigation an average of 26 times per month. There are no alternate waterway routes available. Due to prior experience and coordination with waterway users, it has been determined that this closure will not have a significant effect on these vessels.

In accordance with 33 CFR 117.35(e), the drawbridge must return to its regular operating schedule immediately at the end of the designated time period. This deviation from the operating regulations is authorized under 33 CFR 117.35.

Dated: June 2, 2010.
David M. Frank,
Bridge Administrator.

[FR Doc. 2010-14145 Filed 6-11-10; 8:45 am]

BILLING CODE 9110-04-P